DEPARTMENT OF COMMERCE

National Oceanic and Atmospheric Administration

United States Integrated Ocean Observing System Advisory Committee

AGENCY: National Ocean Service, National Oceanic and Atmospheric Administration (NOAA), Department of Commerce.

ACTION: Notice of new member solicitation for the United States Integrated Ocean Observing System (U.S. IOOS) Advisory Committee.

SUMMARY: The National Oceanic and Atmospheric Administration (NOAA) is soliciting applications for membership on the United States Integrated Ocean Observing System Advisory Committee (the Committee), which is a Federal advisory committee. Members of the Committee will fulfill the requirements of the Integrated Coastal and Ocean Observation System Act of 2009 (the Act). The Committee provides advice to the Under Secretary of Commerce for Oceans and Atmosphere and to the Interagency Ocean Observation Committee on the planning, integrated design, operation, maintenance, enhancement, and expansion of the United States Integrated Ocean Observing System (U.S. IOOS). U.S. IOOS promotes research to develop, test, and deploy innovations and improvements in coastal and ocean observation technologies and modeling systems, addresses regional and national needs for ocean information, gathers data on key coastal, ocean, and Great Lakes variables and ensures timely and sustained dissemination and availability of these data for societal benefits. U.S. IOOS benefits national safety, the economy, and the environment through support for national defense, marine commerce and forecasting, navigation safety, weather, climate, energy siting and production, economic development, ecosystem-based management of marine and coastal areas, conservation of ocean and coastal resources and public safety.

DATES: Nominations should be submitted no later than January 2, 2024. Applications received after January 2, 2024 may not be considered during this membership application cycle, but may be considered for future membership cycles.

ADDRESSES: Submit an application for Committee membership, including cover letter, resume, and requested items below, to Laura Gewain via email Laura.Gewain@noaa.gov. Please direct any questions regarding application submission to Laura Gewain via email or telephone: 240-533-9456.

FOR FURTHER INFORMATION CONTACT: Krisa Arzayus, 1315 East-West Highway, Station 2616, Silver Spring, MD 20910; Telephone: 240-533-9455; Email: Krisa.Arzayus@noaa.gov.

SUPPLEMENTARY INFORMATION: The Act requires the establishment and administration of this Committee by the Under Secretary of Commerce for Oceans and Atmosphere.

NOAA will hereby accept applications for membership on the Committee to fill ten vacancies that will occur on September 14, 2024. These appointments shall serve for a three-year term, which will end September 13, 2027. An individual so appointed may subsequently be appointed for an additional three-year term. The Act states: “Members shall be qualified by education, training, and experience to evaluate scientific and technical information related to the design, operation, maintenance, or use of the [Integrated Ocean Observing] System, or use of data products provided through the System.” NOAA encourages individuals with expertise in Great Lakes; philanthropy; NGO; scientific institutions (Academic); IOOS regional interests; state, local and tribal interests; renewable energy, including offshore wind; blue economy; social science; public-private partnerships; marine technologies industries; data management and architecture; ocean and coastal leadership; and other science-related fields to submit applications for Committee membership.

This notice responds to the ICOOS Act of 2009 (Pub. L. 111-11, section 12304), which requires the Under Secretary of Commerce for Oceans and Atmosphere to solicit nominations for Committee membership. The Committee will advise the NOAA Administrator or Interagency Ocean Observation Committee on matters related to the responsibilities and authorities set forth in section 12302 of the ICOOS Act of 2009 and other appropriate matters as the Under Secretary refers to the Committee for review and advice.

The United States Integrated Ocean Observing System Advisory Committee will provide advice on:

(a) administration, operation, management, and maintenance of the Integrated Coastal and Ocean Observation System (the System);

(b) expansion and periodic modernization and upgrade of technology components of the System;

(c) identification of end-user communities, their needs for information provided by the System, and the System's effectiveness in disseminating information to end-user communities and to the general public; and

(d) additional priorities, including—

(1) a national surface current mapping network designed to improve fine scale sea surface mapping using high frequency radar technology and other emerging technologies to address national priorities, including Coast Guard search and rescue operation planning and harmful algal bloom forecasting and detection that—

(i) is comprised of existing high frequency radar and other sea surface current mapping infrastructure operated by national programs and regional coastal observing systems;

(ii) incorporates new high frequency radar assets or other fine scale sea surface mapping technology assets, and other assets needed to fill gaps in coverage on United States coastlines; and

(iii) follows a deployment plan that prioritizes closing gaps in high frequency radar infrastructure in the United States, starting with areas demonstrating significant sea surface current data needs, especially in areas where additional data will improve Coast Guard search and rescue models;

(2) fleet acquisition for unmanned maritime systems for deployment and data integration to fulfill the purposes of this subtitle;

(3) an integrative survey program for application of unmanned maritime systems to the real-time or near real-time collection and transmission of sea floor, water column, and sea surface data on biology, chemistry, geology, physics, and hydrography;

(4) remote sensing and data assimilation to develop new analytical methodologies to assimilate data from the System into hydrodynamic models;

(5) integrated, multi-State monitoring to assess sources, movement, and fate of sediments in coastal regions;

(6) a multi-region marine sound monitoring system to be—

(i) planned in consultation with the IOOC, NOAA, the Department of the Navy, and academic research institutions; and

(ii) developed, installed, and operated in coordination with NOAA, the Department of the Navy, and academic research institutions; and

(e) any other purpose identified by the Administrator or the Council.

The Committee's voting members will be appointed by the Under Secretary of Commerce for Oceans and Atmosphere. Members shall be qualified by education, training, and experience to evaluate scientific and technical information related to the design, operation, maintenance, or use of the System, or the use of data products provided through the System. Members are selected on a standardized basis, in accordance with applicable Department of Commerce guidance. Members will be appointed for three-year terms, renewable once. One Committee member will be designated by the Under Secretary as chairperson. Full-time officers or employees of the United States may not be appointed as a voting member. Members will be appointed as special Government employees (SGEs) for purposes of section 202(a) of title 18, United States Code. Members serve at the discretion of the Under Secretary and are subject to government ethics standards. Members of the Committee will not be compensated for service on the Committee, but they may be allowed travel expenses, including per diem in lieu of subsistence, in accordance with subchapter I of chapter 57 of title 5, United States Code.

The Committee will meet at least once each year, and at other times at the call of the Under Secretary, the Interagency Ocean Observation Committee, or the Committee Chairperson. The Committee has approximately fifteen voting members. This solicitation is to obtain candidate applications for up to ten full voting member vacancies.

To apply for membership, applicants must submit the following five items, including a cover letter that responds to the five questions below. The entire package should be a maximum length of eight pages or fewer. NOAA is an equal opportunity employer.

(1) A cover letter that responds to the five questions listed below and serves as a statement of interest to serve on the panel. Please see “Short Response Questions” below.

(2) Highlight the nominee's specific area(s) of expertise relevant to the purpose of the Panel from the list in the Federal Register Notice.

(3) A short biography of 300 to 400 words.

(4) A current resume.

(5) The nominee's full name, title, institutional affiliation, mailing address, email, phone, fax and contact information.

Short Response Questions:

(1) List your area(s) of expertise, as listed above.

(2) List the geographic region(s) of the country with which you primarily associate your expertise. This does not need to be the region in which the nominee currently resides.

(3) Describe your leadership or professional experience that you believe will contribute to the effectiveness of this panel.

(4) Describe your familiarity and experience with U.S. IOOS data, products, and services.

(5) Generally describe the breadth and scope of your knowledge of stakeholders, users, or other groups who interact with NOAA or other U.S. IOOS agencies and whose views and input you believe you can share with the panel.

Individuals Selected for Committee Membership

Upon selection and agreement to serve on the United States Integrated Ocean Observing System Advisory Committee, one becomes a Special Government Employee (SGE) of the United States Government. An SGE is an officer or employee of an agency who is retained, designated, appointed, or employed to perform temporary duties, with or without compensation, for not to exceed 130 days during any period of 365 consecutive days, either on a full-time or intermittent basis. After the membership selection process is complete, applicants who are selected to serve on the Committee must complete the following actions before they can be appointed as a Committee member:

(a) Background Check (on-line Background Check process and fingerprinting conducted through NOAA Office of Human Capital Services); and

(b) Confidential Financial Disclosure Report: As an SGE, one is required to file annually a Confidential Financial Disclosure Report to avoid involvement in a real or apparent conflict of interest. One may find the Confidential Financial Disclosure Report at the following website: http://www.usoge.gov/forms/form_450.aspx.

Privacy Act Statement

Authority. The collection of information concerning nominations to the IOOS AC is authorized under the FACA, 5 U.S.C. app. and its implementing regulations, 41 CFR part 102-3, and in accordance with the Privacy Act of 1974, as amended, (Privacy Act) 5 U.S.C. 552a.

Purpose. The collection of names, contact information, resumes, professional information, and qualifications is required in order for the Under Secretary to appoint members to the IOOS AC.

Routine Uses. NOAA will use the nomination information for the purpose set forth above. The Privacy Act of 1974 authorizes disclosure of the information collected to NOAA staff for work-related purposes and for other purposes only as set forth in the Privacy Act and for routine uses published in the Privacy Act System of Records Notice COMMERCE/DEPT-11, Candidates for Membership, Members, and Former Members of Department of Commerce Advisory Committees, available at https://www.osec.doc.gov/opog/PrivacyAct/SORNs/dept-11.html, and the System of Records Notice COMMERCE/DEPT-18, Employees Personnel Files Not Covered by Notices of Other Agencies, available at https://www.osec.doc.gov/opog/PrivacyAct/SORNs/DEPT-18.html.

Disclosure. Furnishing the nomination information is voluntary; however, if the information is not provided, the individual would not be considered for appointment as a member of the IOOS AC.

Krisa M. Arzayus,
Deputy Director, U.S. Integrated Ocean Observing System Office, National Ocean Service, National Oceanic and Atmospheric Administration.

[FR Doc. 2023-22090 Filed 10-3-23; 8:45 am]

BILLING CODE 3510-JE-P